FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 5, 2012.

A. Federal Reserve Bank of Minneapolis (Jacqueline G. King, Community Affairs Officer) 90 Hennepin Avenue, Minneapolis, Minnesota 55480-0291:

1. The Family Trust under the Last Will and Testament of Charles M. Johnson, Sr., dated March 13, 2007, and Charles M. Johnson, Jr., individually and as trustee of the Trust, Chatfield, Minnesota; to acquire voting shares of Johnson Bancshares, Inc., and thereby indirectly acquire voting shares of Root River State Bank, both in Chatfield, Minnesota.

2. Brooke L. Distad, Kasson, Minnesota, and Jeffrey C. Palmer, Mantorville, Minnesota; to acquire and retain voting shares of Palmer Bancshares, Inc., and thereby indirectly retain voting shares of Kasson State Bank, both in Kasson, Minnesota.

Board of Governors of the Federal Reserve System, October 16, 2012.
Margaret McCloskey Shanks,
Associate Secretary of the Board.

[FR Doc. 2012-25775 Filed 10-18-12; 8:45 am]

BILLING CODE 6210-01-P